DEPARTMENT OF ENERGY

Federal Energy Regulatory Commission

Combined Notice of Filings

November 2, 2011.

Take notice that the Commission has received the following Natural Gas Pipeline Rate and Refund Report filings:

Filings Instituting Proceedings

Docket Numbers: RP12-117-000.

Applicants: ETC Tiger Pipeline, LLC.

Description: Tiger Semi-Annual Fuel Filing 002 to be effective 12/1/2011.

Filed Date: 11/01/2011.

Accession Number: 20111101-5011.

Comment Date: 5 p.m. ET on 11/14/2011.

Docket Numbers: RP12-118-000.

Applicants: Algonquin Gas Transmission, LLC.

Description: ConEd 2011-11-01 Release to Infinite Energy to be effective 11/1/2011.

Filed Date: 11/01/2011.

Accession Number: 20111101-5079.

Comment Date: 5 p.m. ET on 11/14/2011.

Docket Numbers: RP12-119-000.

Applicants: Equitrans, L.P.

Description: ITS Form of Service Agreement Revision to be effective 12/1/2011.

Filed Date: 11/01/2011.

Accession Number: 20111101-5109.

Comment Date: 5 p.m. ET on 11/14/2011.

Docket Numbers: RP12-120-000.

Applicants: Gulf South Pipeline Company, LP.

Description: ONEOK 34951 to BP Energy 39030 Capacity Release Negotiated Rate Agreement to be effective 11/1/2011.

Filed Date: 11/01/2011.

Accession Number: 20111101-5129.

Comment Date: 5 p.m. ET on 11/14/2011.

Docket Numbers: RP12-124-000.

Applicants: Equitrans, L.P.

Description: Equitrans, L.P. Operational Purchases and Sales Report for the twelve month period ended August 31, 2011.

Filed Date: 11/01/2011.

Accession Number: 20111101-5167.

Comment Date: 5 p.m. ET on 11/14/2011.

Docket Numbers: RP12-125-000.

Applicants: ANR Pipeline Company.

Description: Negotiated Rate Agreements 11-1-11 to be effective 11/1/2011.

Filed Date: 11/01/2011.

Accession Number: 20111101-5190.

Comment Date: 5 p.m. ET on 11/14/2011.

Docket Numbers: RP12-126-000.

Applicants: Iroquois Gas Transmission System, L.P.

Description: 11/01/11 Negotiated Rates—BG Energy Merchants, LLC (HUB) to be effective 11/1/2011.

Filed Date: 11/01/2011.

Accession Number: 20111101-5192.

Comment Date: 5 p.m. ET on 11/14/2011.

Docket Numbers: RP12-127-000.

Applicants: Viking Gas Transmission Company.

Description: PAL Modification to be effective 12/1/2011.

Filed Date: 11/01/2011.

Accession Number: 20111101-5216.

Comment Date: 5 p.m. ET on 11/14/2011.

Docket Numbers: RP12-128-000.

Applicants: Algonquin Gas Transmission, LLC.

Description: Nonconforming Agreements—Update RP10-46 and RP10-179 to be effective 12/2/2011 under RP12-128 Filing Type: 570.

Filed Date: 11/02/2011.

Accession Number: 20111102-5052.

Comment Date: 5 p.m. ET on 11/14/2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP05-164-018.

Applicants: Equitrans, L.P.

Description: Equitrans, L.P. Annual Report on Fuel and Lost and Unaccounted for gas volumes for the period September 2010 through August 2011.

Filed Date: 11/01/2011.

Accession Number: 20111101-5226.

Comment Date: 5 p.m. ET on 11/14/2011.

Docket Numbers: RP12-111-001.

Applicants: Algonquin Gas Transmission, LLC.

Description: Amendment to ConEd 2011-11-01 Releases #3 to be effective 11/1/2011.

Filed Date: 11/01/2011.

Accession Number: 20111101-5107.

Comment Date: 5 p.m. ET on 11/14/2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 2, 2011.
Nathaniel J. Davis, Sr.,
Deputy Secretary.

[FR Doc. 2011-28873 Filed 11-7-11; 8:45 am]

BILLING CODE 6717-01-P